DEPARTMENT OF HOMELAND SECURITY

Federal Emergency Management Agency

44 CFR Part 67

[Docket No. FEMA-B-7725]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Franklin County, Ohio, and Incorporated Areas
Whims Ditch | 950 feet upstream of Little Avenue | None | +704 | City of Columbus Franklin County (Unincorporated Areas).
| At Frank Road | None | +704
* National Geodetic Vertical Datum.
# Depth in feet above ground.
+ North American Vertical Datum.
ADDRESSES
City of Bexley
Maps are available for inspection at 2242 East Main Street, Bexley, OH 43215.
Send comments to Ms. Dorothy Pritchard, Service Director, City of Bexley, 2242 East Main Street, Bexley, OH 43209.
City of Columbus
Maps are available for inspection at 757 Carolyn Avenue, Columbus, OH 43224.
Send comments to Mr. Paul Freedman, Development/Regulation Administration, City of Columbus, 757 Carolyn Avenue, Columbus, OH 43224.
City of Dublin
Maps are available for inspection at 5800 Shier-Rings Road, Dublin, OH 43016.
Send comments to Mr. Jay Herskowitz, Assistant City Engineer, City of Dublin, 5800 Shier-Rings Road, Dublin, OH 43016.
City of Gahanna
Maps are available for inspection at 200 Hamilton Road, Gahanna, OH 43230.
Send comments to Ms. Bonnie Gard, Planning/Zoning Administrator, City of Gahanna, 200 Hamilton Road, Gahanna, OH 43230.
City of Grandview Heights
Maps are available for inspection at 1016 Grandview Avenue, Grandview Heights, OH 43212.
Send comments to Mr. John Kuss, Building/Zoning Official, City of Grandview Heights, 1016 Grandview Avenue, Grandview Heights, OH 43212.
City of Grove City
Maps are available for inspection at 4035 Broadway, Grove City, OH 43123.
Send comments to Mr. Michael Boso, Chief Building Official, City of Grove City, 4035 Broadway, Grove City, OH 43123.
City of Hilliard
Maps are available for inspection at 3800 Municipal Way, Hilliard, OH 43026.
Send comments to Mr. Ron Fletch, Chief Building Inspector, City of Hilliard, 3800 Municipal Way, Hilliard, OH 43026.
City of Reynoldsburg
Maps are available for inspection at 7232 East Main Street, Reynoldsburg, OH 43068.
Send comments to Mr. Chet Hopper, Building Official, City of Reynoldsburg, 7232 East Main Street, Reynoldsburg, OH 43068.
City of Upper Arlington
Maps are available for inspection at 3600 Tremont Road, Upper Arlington, OH 43220.
Send comments to Mr. Matt Davis, Floodplain Administrator, City of Upper Arlington, 3600 Tremont Road, Upper Arlington, OH 43220.
City of Westerville
Maps are available for inspection at 64 East Walnut Street, Westerville, OH 43081.
Send comments to Mr. Richard Kight, Planning Administrator, Planning & Development, City of Westerville, 64 East Walnut Street, Westerville, OH 43081.
City of Whitehall
Maps are available for inspection at 360 S. Yearling Road, Whitehall, OH 43213.
Send comments to Mr. Ray Ogden, Public Service Director, City of Whitehall, 360 S. Yearling Road, Whitehall, OH 43213.
City of Worthington
Maps are available for inspection at 374 Highland Avenue, Worthington, OH 43085.
Send comments to Mr. William Watterson, City Engineer, City of Worthington, 374 Highland Avenue, Worthington, OH 43085.
Franklin County (Unincorporated Areas)
Maps are available for inspection at 280 East Broad Street, Room 202, Columbus, OH 43215.
Send comments to Mr. Matt Brown, Franklin County Floodplain Coordinator, 280 East Broad Street, Room 202, Columbus, OH 43215.
Village of Brice
Maps are available for inspection at 5990 Columbus Street, Brice, OH 43109.
Send comments to The Honorable David Welling, Mayor, Village of Brice, PO Box 65, Brice, OH 43109.
Village of Canal Winchester
Maps are available for inspection at 36 South High Street, Canal Winchester, OH 43110.
Send comments to Mr. Alan Neimayer, Planning/Zoning Administrator, Village of Canal Winchester, 36 High Street, Canal Winchester, OH 43110.
Village of Groveport
Maps are available for inspection at 655 Blacklick Street, Groveport, OH 43125.
Send comments to Mr. Stephen Moore, Building Official, Village of Groveport, 655 Blacklick Street, Groveport, OH 43125.
Village of Harrisburg
Maps are available for inspection at 1100 High Street, Harrisburg, OH 43126.
Send comments to The Honorable Alvin Cox, Mayor, Village of Harrisburg, 1100 High Street, PO Box 17, Harrisburg, OH 43126.
Village of Lithopolis
Maps are available for inspection at 33 N Market Street, Lithopolis, OH 43136.
Send comments to The Honorable Eric Sandine, Mayor, Village of Lithopolis, 33 N Market Street, PO Box 278, Lithopolis, OH 43136.
Village of Lockbourne
Maps are available for inspection at 99 Williams Street, Lockbourne, OH 43137.
Send comments to Mr. George Hammond, Administrator, Village of Lockbourne, 99 Williams Street, Lockbourne, OH 43137.
Village of Marble Cliff
Maps are available for inspection at 1600 Fernwood Avenue, Marble Cliff, OH 43212.
Send comments to Mr. Donald Mares, City Engineer, Village of Marble Cliff, 1600 Fernwood Avenue, Marble Cliff, OH 43212.
Village of New Albany
Maps are available for inspection at 99 W. Main Street, New Albany, OH 43054.
Send comments to Ms. Jennifer Crysler, Development Director, Village of New Albany, 99 W. Main Street, New Albany, OH 43054.
Village of Obetz
Maps are available for inspection at 4175 Alum Creek Drive, Obetz, OH 43207-5140.
Send comments to Mr. Douglas Browell, Administrator, Village of Obetz, 4175 Alum Creek Drive, Obetz, OH 43207-5140.
Village of Riverlea
Maps are available for inspection at 229 W. Southington Avenue, Worthington, OH 43085.
Send comments to The Honorable Mary Jo Cusack, Mayor, Village of Riverlea, 229 W. Southington Avenue, Worthington, OH 43085.
Village of Urbancrest
Maps are available for inspection at 3492 First Avenue, Urbancrest, OH 43123.
Send comments to The Honorable Marlin West, Mayor, Village of Urbancrest, 3492 First Avenue, Urbancrest, OH 43123.
Village of Valleyview
Maps are available for inspection at 432 N. Richardson Avenue, Valleyview, OH 43204.
Send comments to The Honorable Thomas Watkins, Mayor, Village of Valleyview, 432 N. Richardson Avenue, Valleyview, OH 43204.
Clackamas County, Oregon, and Incorporated Areas
Lake Oswego | Lake Oswego | *101 | +107 | City of Lake Oswego.
Oswego Canal | At the confluence with Oswego | *101 | +107 | Clackamas County (Unincorporated Areas).
| Approximately 1500 feet upstream of Childs Road | *117 | +125 | City of Lake Oswego.
Richardson Creek Anderson RD Tributary | At the confluence with Richardson Creek | None | +302 | City of Damascus.
| 50 feet upstream of SE Sunnyside Road | None | +533
Richardson Creek Royer Road Tributary | At the confluence with Richardson Creek | None | +402 | City of Damascus.
| Approximately 2200 feet upstream of confluence with Richardson Creek | None | +448
Richardson Creek-Keller Road Tributary | At the Confluence with Richardson Creek | None | +164 | Clackamas County (Unincorporated Areas).
| Approximately 200 feet upstream of SE Keller Road | None | +378 | City of Damascus.
Richardson Creek | At the confluence with Clackamas River | None | +116 | Clackamas County (Unincorporated Areas).
| Just upstream of State Highway 212 | None | +590 | City of Damascus.
Rock Creek | At the confluence with Clackamas River | None | +94 | Clackamas County (Unincorporated Areas).
| Approximately 100 feet upstream of SE Bohna Park Road | None | +453 | City of Damascus, City of Happy Valley.
172nd Avenue Tributary | At the Confluence with Rock Creek | None | +231 | Clackamas County (Unincorporated Areas).
| Approximately 150 feet upstream of SE Big Timber Lane | None | +328 | City of Happy Valley.
Hemrick Road Tributary | At the confluence with Rock Creek | None | +315 | Clackamas County (Unincorporated Areas).
| Approximately 200 feet upstream of SE Tillstrom Road | None | +407 | City of Damascus, City of Happy Valley.
Highway 224 Tributary | At confluence with Rock Creek | None | +94 | City of Happy Valley, City of Damascus.
| Approximately 150 feet upstream of Goosehollow Drive | None | +213
N Golf Course Tributary | At the confluence with Rock Creek | None | +302 | Clackamas County (Unincorporated Areas).
| Approximately 50 feet upstream of SE 162nd Avenue | None | +381 | City of Happy Valley.
S Golf Course Tributary | At confluence with Rock Creek | None | +293 | City of Happy Valley.
| Approximately 50 feet upstream of SE 162nd Avenue | None | +383
Tualatin River | At the confluence with Willamette River | *72 | +75 | Clackamas County (Unincorporated Areas).
| Just downstream of R. H. Baldock Freeway | *122 | +127 | City of Lake Oswego, City of Rivergrove, City of West Linn.
Overflow to Rivergrove | Approximately 1,000 feet downstream of Childs Road | *114 | +121 | Clackamas County (Unincorporated Areas).
| At the intersection of Marlin Avenue and Southeast Dogwood Drive | *121 | +125 | City of Rivergrove.
* National Geodetic Vertical Datum.
# Depth in feet above ground.
+ North American Vertical Datum.
ADDRESSES
City of Damascus
Maps are available for inspection at Damascus City Hall, 19920 Highway 212, Damascus, OR 97089.
Send comments to The Honorable Dee Wescott, Mayor, City of Damascus, 19920 Southeast Highway 212, Damascus, OR 97089.
City of Happy Valley
Maps are available for inspection at Michael Walter Planning Services Manager, 12915 SE King Road, Happy Valley, OR 97086.
Send comments to The Honorable Rob Wheeler, Mayor, City of Happy Valley, 12915 SE King Road, Happy Valley, OR 97086.
City of Lake Oswego
Maps are available for inspection at Rob D. Amsberry Surface Water Management, 380 A Avenue, Lake Oswego, OR 97034.
Send comments to The Honorable Judie Hammerstad, Mayor, City of Lake Oswego, 380 A Avenue, Lake Oswego, OR 97034.
City of Rivergrove
Maps are available for inspection at Larry Barrett City Manager, 5311 Childs Road, Lake Oswego, OR 97035.
Send comments to The Honorable Hafez Daraee, Mayor, City of Rivergrove, 5311 Childs Road, Lake Oswego, OR 97035.
City of West Linn
Maps are available for inspection at City Hall, 22500 Salamo Road, West Linn, OR 97068.
Send comments to The Honorable Norm King, Mayor, City of West Linn, 22500 Salamo Road, West Linn, OR 97068.
Clackamas County (Unincorporated Areas)
Maps are available for inspection at Steve F. Hanschka Floodplain Administrator Sunnybrook Service Center, 9101 SE Sannybrook Boulevard, Clackamas, OR 97015.
Send comments to The Honorable Martha Sharader, Chairwoman, County of Clackamas, 2051 Kean Road, Oregon City, OR 97045.
Potter County, Texas, and Incorporated Areas
Dry Creek | Approximately 500 feet upstream from the intersection with Cliffside Road | None | +3400 | Potter County (Unincorporated Areas).
| Approximately 500 feet upstream from the intersection with W 335 North LP | None | +3468
Overflow | Approximately 500 feet downstream from confluence with Dry Creek | None | +3416 | City of Amarillo.
| Approximately 120 feet north of W 335 North Loop intersection | None | +3468
Playa Lake 21 | Approximately 570 feet east of Willow Street and SE 15th Avenue | *3612 | +3614 | City of Amarillo.
Playa Lake 22 | Approximately 3500 feet north of SE 3rd Avenue and S Whitaker Road intersection | *3587 | +3589 | City of Amarillo.
Playa Lake 23 | Approximately 1500 feet northwest of S. Adams Street and SW 1st Avenue Intersection | *3617 | +3619 | City of Amarillo.
Playa Lake 34 | Approximately 4600 feet southwest of Highway 287 and S. Parsley Road intersection | None | +3553 | City of Amarillo.
Playa Lake 6 | Approximately 1000 feet south of Pecos Street and IH 40 intersection | *3627 | +3624 | City of Amarillo.
Playa Lake 60 | Approximately 2000 feet east of Spur 228 | None | +3558 | Potter County (Unincorporated Areas).
Playa Lake 61 | Approximately 1100 feet northeast from intersection of Parsley Road and railroad | None | +3596 | City of Amarillo.
Tributary B | Confluence with Dry Creek | None | +3468 | City of Amarillo.
| Approximately 100 feet from the intersection with N Western Street | None | +3530
Tributary C | Confluence with Dry Creek | None | +3468 | City of Amarillo.
| Approximately 100 feet upstream from Fairway Drive | None | +3506
Tributary D | Confluence with Tributary B | None | +3505 | City of Amarillo.
| Approximately 500 feet upstream from West Amarillo Boulevard | None | +3582
Tributary | Approximately 50 feet downstream from confluence with Tributary D | None | +3532 | City of Amarillo.
| Approximately 1000 feet upstream from NW 10th Avenue | None | +3579
West Amarillo Creek | Approximately 1000 feet west of the intersection of Helium Road and W. 9th Avenue | None | +3616 | Potter County (Unincorporated Areas).
| Approximately 100 feet upstream from the intersection with Indian Hill Road | None | +3708
* National Geodetic Vertical Datum.
# Depth in feet above ground.
+ North American Vertical Datum.
ADDRESSES
City of Amarillo
Maps are available for inspection at 509 E. 7th Ave., Amarillo, TX 79105.
Send comments to The Honorable Debrah McCartt, Mayor, City of Amarillo, P.O. Box 1971, Amarillo, TX 79105.
Potter County (Unincorporated Areas)
Maps are available for inspection at 2419 E. Willow Creek, Amarillo, TX 79108.
Send comments to The Honorable Arthur Ward, Judge, Potter County, 500 S. Fillmore, Amarillo, TX 79101.

(Catalog of Federal Domestic Assistance No. 97.022, “Flood Insurance.”)

Dated: July 3, 2007.
David I. Maurstad,
Federal Insurance Administrator of the National Flood Insurance Program, Department of Homeland Security, Federal Emergency Management Agency.

[FR Doc. E7-13609 Filed 7-12-07; 8:45 am]

BILLING CODE 9110-12-P